DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Bureau of Labor Statistics (BLS) is soliciting comments concerning the proposed new collection of the “Current Population Survey (CPS) Disability Questions Test,” to be conducted in February 2006. A copy of the proposed information collection request (ICR) can be obtained by contacting the individual listed below in the Addresses section of this notice.

DATES: Written comments must be submitted to the office listed in the ADDRESSES section of this notice on or before September 16, 2005.

ADDRESSES: Send comments to Amy A. Hobby, BLS Clearance Officer, Division of Management Systems, Bureau of Labor Statistics, Room 4080, 2 Massachusetts Avenue, NE., Washington, DC 20212, telephone number (202) 691-7628. (This is not a toll free number.)

FOR FURTHER INFORMATION CONTACT: Amy A. Hobby, BLS Clearance Officer, telephone number (202) 691-7628. (See ADDRESSES section.)

SUPPLEMENTARY INFORMATION:

I. Background

The February 2006 CPS Disability Questions Test will be conducted by the Bureau of Labor Statistics (BLS). The Test will gather information on the disability status of CPS respondents. The BLS will use the data to assess the effectiveness of new questions designed to identify persons with disabilities within the context of the CPS. Additionally, the BLS will be able to evaluate the effect that adding these questions to the CPS on a monthly basis will have on that survey's response rates. Other groups who may find these data to be of interest include veterans groups, educational associations, and disability advocacy groups.

Because the Disability Questions Test is part of the CPS, the same detailed demographic information collected in the CPS will be available on respondents to the Test. Data concerning disabled persons will be possible across characteristics such as sex, race, age, and educational attainment of the respondent.

II. Current Action

Office of Management and Budget clearance is being sought for the CPS Disability Questions Test.

Type of Review: New collection.

Agency: Bureau of Labor Statistics.

Title: CPS Disability Questions Test.

OMB Number: 1220-NEW.

Affected Public: Households.

Total Respondents: 22,500.

Frequency: Once.

Total Responses: 43,500.

Average Time per Respondent: 2 minutes.

Estimated Total Burden Hours: 750 hours.

Total Burden Cost (capital/startup): $0.

Total Burden Cost (operating/maintenance): $0.

III. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Comments submitted in response to this notice will be summarized and/or included in the request for Office of Management and Budget approval of the information collection request; they also will become a matter of public record.

Signed at Washington, DC, this 12th day of July, 2005.
Cathy Kazanowski,
Chief, Division of Management Systems, Bureau of Labor Statistics.

[FR Doc. 05-14023 Filed 7-15-05; 8:45 am]

BILLING CODE 4510-24-P